DEPARTMENT OF AGRICULTURE

Forest Service

Bighorn National Forest; Wyoming; Woodrock Project EIS

AGENCY: Forest Service, USDA.

ACTION: Revision of notice of intent.

SUMMARY: The Forest Supervisor of the Bighorn National Forest, responsible official for the Woodrock Project EIS, is designating the Tongue District Ranger as the responsible official for the action listed in the Federal Register Friday April 4, 2003, volume 68, number 65, pp. 16464 to 16465. All other project proposed actions are unchanged.

DATES: Scoping and the comment period have been completed. The Forest Service estimates the Final EIS will be filed approximately September of 2004.

FOR FURTHER INFORMATION CONTACT: Scott Hill, EIS Team Leader Woodrock Project, Bighorn National Forest, 2013 Eastside 2nd Street, Sheridan, WY, 82801, electronic mail: shill02@fs.fed.us.

SUPPLEMENTARY INFORMATION:

Purpose and Need for Action

The Woodrock Project proposed to implement the Forest Plan. The project includes: implementation of Forest Plan allocations, implementing past forest management decisions and silvicultural prescriptions, improve watershed conditions, improve travel management and existing road systems, and improve or maintain the forested vegetation within the forest plan standard and guidelines and other legal requirements.

Proposed Action

The Forest Service proposes to: Improve diversity of forested vegetation by mimicking scale and intensity of natural disturbance patterns within the project area; reduce impacts to watershed conditions from roads and trails by changing travel management restrictions, reconstructing, restricting travel, or decommissioning existing roads where problems cannot be mitigated; on roads and trails; harden, relocate, or close dispersed campsites to meet Forest Plan direction; timber harvest of stands to produce wood fiber and reduce the spread of forest pests on approximately 1,800 acres.

Responsible Official

The designated responsible official for this project is the Tongue District Ranger, Bighorn National Forest, National Forest, 2013 Eastside 2nd Street, Sheridan, WY, 82801.

Nature of Decision To Be Made

The District Ranger will decide: If changes should be made to the transportation system within the area; whether and where timber harvest should be implemented; if timber harvest occurs, what silvicultural systems and size of openings would be created; what noncommercial vegetation and fuels treatments should be taken; and what watershed improvements should be undertaken. He will decide when, or if, any management activities would take place, what mitigation measures would be implemented to address concerns, and whether the action requires amendment(s) to the Bighorn Forest Plan.

Scoping Process

The NOA for the DEIS was published in the Federal Register November 11, 2003, on page 63085. The NOI was originally mailed and posted in the Federal Register on April 4, 2003. The Woodrock project was initially developed as an Environmental Assessment. Scoping notices were sent on September 2, 1997, inviting comments from Federal, State and local agencies, special interest groups and individuals who had expressed interest in National Forest projects in the area. Scoping notices were sent to newspapers across northern Wyoming. A field trip was held on September 30, 1997. A public meeting addressing travel management in the Woodrock area was held at Bear Lodge on October 7, 2000. The project has been listed in the Quarterly Schedule of Proposed Actions from 1997 to the present.

A 60-day review period for comments on the Draft EIS was completed January 9, 2004. Comments received are being considered and included in documentation of the Final EIS. Comments which have been received, including the names and addresses of those who commented, are considered part of the public record on this proposal and are available for public inspection (Authority: 40 CFR 1501.7 and 1508.22; Forest Service Handbook 1909.15, section 21).

Dated: January 29, 2004.
Bernard R. Bornong,
Acting Forest Supervisor.

[FR Doc. 04-2245 Filed 2-3-04; 8:45 am]

BILLING CODE 3410-11-P